DEPARTMENT OF ENERGY

Federal Energy Regulatory Commission

[Docket No. CP10-71-000]

Questar Pipeline Company; Notice of Request Under Blanket Authorization

March 2, 2010.

Take notice that on February 22, 2010, Questar Pipeline Company (Questar), 180 East 100 South, P.O. Box 45360, Salt Lake City, Utah 84145, filed in Docket No. CP10-71-000, an application, pursuant to sections 157.205 and 157.210 of the Commission's Regulations under the Natural Gas Act (NGA) as amended, to reconfigure its facilities at the existing Fidlar compressor station in Uintah County, Utah, and uprate the maximum allowable operating pressure (MAOP) on Questar's Mainline 68 in Uintah County, Utah, and Rio Blanco County, Colorado, under Questar's blanket certificate issued in Docket No. CP82-491-000,¹ all as more fully set forth in the application which is on file with the Commission and open to the public for inspection.

¹ 20 FERC ¶ 62,580 (1982).

Questar proposes to reconfigure its facilities at the existing Fidlar compressor station (Fidlar), located at the junction of Questar's existing Main Line (ML) 103, 80, and 40 in Uintah County, Utah, and uprate Questar's ML 68 to a MAOP of 1290 psig via gas-pressure testing. Questar states that the proposed changes would result in an incremental capacity increase of approximately 25,000 Dekatherms per day and enable a dual-stage operating mode to provide greater flexibility and increased efficiencies at Fidlar. Questar further states that the proposed reconfigurations would facilitate west-to-east deliveries of natural gas volumes to Questar's affiliate, White River Hub, LLC. Questar states that its proposed reconfigurations would cost an estimated $2,736,538.

Any questions concerning this application may be directed to L. Bradley Burton, Manager, Federal Regulatory Affairs, Questar Pipeline Company, 180 East 100 South, P.O. Box 45360, Salt Lake City, Utah 84145-0360, telephone at (801) 324-2459, facsimile at (801) 324-5834, or via e-mail: brad.burton@questar.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866)206-3676, or, for TTY, contact (202)502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Kimberly D. Bose,
Secretary.

[FR Doc. 2010-5004 Filed 3-9-10; 8:45 am]

BILLING CODE 6717-01-P